ENVIRONMENTAL PROTECTION AGENCY

[EPA-HQ-OAR-2023-0314; 11242-01-OAR]

Notice of Proposed Information Collection Request; Indoor airPLUS Program

AGENCY: Office of Radiation and Indoor Air, Environmental Protection Agency (EPA).

ACTION: Notice; opening of a 60-day public comment period.

SUMMARY: The Environmental Protection Agency (EPA) is planning to submit an information collection request (ICR), “EPA's Indoor airPLUS Program” (EPA ICR No. 2763.01, OMB Control No. 2060-NEW) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before September 29, 2023.

ADDRESSES: Submit your comments, referencing Docket ID No. EPA-HQ-OAR-2023-0314 by any of the following methods:

• Federal eRulemaking Portal https://www.regulations.gov (our preferred method). Follow the online instructions for submitting comments.

• Email: Indoor_airPLUS@epa.gov. Include Docket ID No. EPA-HQ-OAR-2023-0314 in the subject line of the message.

• U.S. Postal Service Mail: U.S. Environmental Protection Agency, EPA Docket Center, Air and Radiation Docket, Mail Code 28221T, 1200 Pennsylvania Ave. NW, Washington, DC 20460.

• Hand Delivery/Courier: EPA Docket Center, WJC West Building, Room 3334, 1301 Constitution Avenue NW, Washington, DC 20004. The Docket Center's hours of operation are 8:30 a.m.-4:30 p.m., Monday-Friday (except Federal Holidays).

Instructions: All submissions received must include the Docket ID No. EPA-HQ-OAR-2023-0314. Comments received may be posted without change to https://www.regulations.gov/, including any personal information provided. For detailed instructions on sending comments, see the SUPPLEMENTARY INFORMATION section of this document.

EPA's policy is that all comments received will be included in the public docket without change including any personal information provided, unless the comment includes profanity, threats, information claimed to be Confidential Business Information (CBI) or other information whose disclosure is restricted by statute.

FOR FURTHER INFORMATION CONTACT: Peggy Bagnoli, Indoor Environments Division, Office of Radiation and Indoor Air 6609T, Environmental Protection Agency, 1200 Pennsylvania Ave. NW, Washington, DC 20460; telephone number: (202) 343-9398; fax number: (202) 343-2393; email address: Indoor_airPLUS@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Indoor airPLUS is aimed at forming public-private partnerships that help prevent various forms of indoor air pollution and their associated health risks. This ICR covers information collection activities under the EPA's newly revised Indoor airPLUS program. Indoor airPLUS is a voluntary certification labeling program that represents value-added marketability that home builders, verification companies, and oversight organizations can use to distinguish themselves from competition, while homeowners see increased comfort and a healthier and safer home with improved indoor air quality (IAQ) by requiring construction practices and product specifications that minimize exposure to airborne pollutants and contaminants.

Form Numbers:

• A Partnership Agreement for Home Builder/Verification Organization/Home Certification Organizations (Voluntary)

• Indoor airPLUS Verification Checklist/Home Certification Organizations Certification Process (Voluntary)

• Indoor airPLUS Quarterly Reporting for Homebuilders/Raters (Voluntary)

• Leader Award Applications Builder/Affordable Builder/Rater (Voluntary)

Respondents/affected entities: Respondents for this information collection request include Indoor airPLUS partners, including homebuilders and developers, verification organizations (raters and rating providers), and home certification organizations. The following is a list of Standard Industrial Classification (SIC) codes and corresponding North American Industry Classification System (NAICS) codes for industry segments which may be affected by information collections covered under this ICR for the Indoor airPLUS Program: Utilities (22), Construction (23), Retail Trade (44-45), Transportation and Warehousing (48-49), Finance and Insurance (52), Real Estate and Rental and Leasing (53), Professional, Scientific, and Technical Services (54), and Public Administration (92).

Respondent's obligation to respond: voluntary (Clean Air Act, section 103).

Estimated number of respondents: 566 new and 2,142 active participants respondents from section 6 of the ICR (total).

Frequency of response: Once per year (on average).

Total estimated burden: 11,205 hours (per year). Burden is defined at 5 CFR 1320.03(b).

Total estimated cost: $1,136,611 (per year), includes $0 annualized capital or operation & maintenance costs.

Changes in estimates: This is a new ICR, no changes in burden currently applicable.

Jonathan D. Edwards,
Director, Office of Radiation and Indoor Air.

[FR Doc. 2023-16195 Filed 7-28-23; 8:45 am]

BILLING CODE 6560-50-P